DEPARTMENT OF THE INTERIOR

Bureau of Land Management

[WY-090-07-1310-DB]

Notice of availability of the Draft Environmental Impact Statement for the Moxa Arch Area Infill Gas Development Project, WY

AGENCY: Bureau of Land Management, Interior.

ACTION: Notice of Availability of the Draft Environmental Impact Statement (DEIS) for the Moxa Arch Area Infill Gas Development Project, Kemmerer, Wyoming.

SUMMARY: In accordance with the National Environmental Policy Act (NEPA) of 1969 as amended, and the Federal Land Policy and Management Act of 1976, the Bureau of Land Management (BLM) announces the availability of the Moxa Arch Area Infill Gas Development Project DEIS. The DEIS analyzes the environmental consequences of a proposed natural gas development and production operation on the 475,808 acre Moxa Arch project area.

DATES: The DEIS will be available for public review and comment for 60 calendar days starting on the date the Environmental Protection Agency (EPA) publishes their Notice of Availability in the Federal Register. The BLM can best utilize your comments and resource information submissions within the 60-day review period.

ADDRESSES: A copy of the DEIS has been sent to affected Federal, State, and local government agencies and to interested parties. The document will be available electronically on the following Web site: http://www.blm.gov/wy/st/en/info/NEPA/kfodocs/moxa_arch.html.

If you are interested in viewing material referenced or posted to the BLM Web site, please contact the Kemmerer Field Office as to its availability. Copies of the DEIS will be available for public inspection at the following locations:

• Bureau of Land Management, Wyoming State Office, 5353 Yellowstone Road, Cheyenne, Wyoming 82009; and

• Bureau of Land Management, Kemmerer Field Office, 312 Highway 189 North, Kemmerer, Wyoming 83101.

(For additional information on how to submit comments, refer to the Supplementary Information section below.)

FOR FURTHER INFORMATION CONTACT: Michele Easley, Project Lead, BLM Kemmerer Field Office, 312 Highway 189 North, Kemmerer, Wyoming 83101, or by telephone at (307) 828-4524. Requests for information also may be sent electronically to: kemmerer_wymail@blm.gov with “Attention: Moxa Arch DEIS Information Request” in the subject line.

SUPPLEMENTARY INFORMATION: The area is located within the administrative jurisdiction of the BLM Kemmerer Field Office, Townships 15 through 23 North (T15-23N), Ranges 111 through 113 West (R111-113W), 6th Principal Meridian, west of Green River, Wyoming, east of Lyman and Opal, Wyoming, and south of the Green River and Fontenelle Reservoir. Interstate 80 (I-80) bisects the southern third of the Project Area.

EOG Resources, Inc. (EOG) and other companies (Operators) propose to expand the existing natural gas drilling and field development operations on BLM-administered Federal, state, and private lands in the Moxa Arch Area of southwestern Wyoming. The Operators propose to drill up to 1,861 new wells from 1,861 new well pads over a 10-year period. Wells would be drilled to the Frontier and Dakota formations at depths of 11,000 to 12,000 feet. The Life-of-Project is expected to be 40 to 60 years and the wells would be drilled at densities ranging from 4-12 wells per square mile. Of the 1,861 wells, 695 would be drilled from lands administered by the BLM, Bureau of Reclamation, and U.S. Fish and Wildlife Service. The remaining 1,166 wells would be drilled from private lands, or lands administered by the State of Wyoming.

The BLM published its Notice of Intent to prepare an EIS for the Moxa Arch Area Infill Gas Development Project in the Federal Register on October 7, 2005. Based upon issues and concerns identified during scoping and throughout the NEPA process, the Moxa Arch Area Infill Gas Development Project DEIS focuses on potential impacts to air quality, biological and physical resources, transportation, socio-economics, and grazing. In compliance with Section 7(c) of the Endangered Species Act, as amended, the DEIS includes a biological assessment for the purpose of identifying endangered or threatened species, which may be affected by the Proposed Action.

The current identified range of alternatives will allow the BLM to select a management strategy that will meet project objectives, while providing adequate environmental protection. During scoping and alternatives development, few public comments were received. The BLM is seeking additional public input, and has not identified a preferred alternative at this time. The DEIS analyzes four alternatives in detail:

• The Proposed Action Alternative: The construction of well pads, access roads, pipelines, and other ancillary facilities (gas processing plant, compressor stations, etc.) for projected development of 1,861 natural gas wells;

• Alternative A (No Action): Development of approximately 757 new wells would continue under the 1997 Record of Decision for the Expanded Moxa Arch Area Natural Gas Development Project EIS;

• Alternative B: Development would occur as in the Proposed Action, but would apply additional Best Management Practices to reduce impacts on sensitive resources; and

• Alternative C: Development of 5,165 new wells and well pads throughout the Moxa Arch gas field (densities ranging from 4-16 wells per square mile).

Comments may be submitted as follows:

1. Electronically mailed to kemmerer_wymail@blm.gov. Please submit comments with “Attn: Moxa Arch Project Manager” in the subject line and do not use special characters or any form of encryption. Do not include attachments, as the BLM e-mail security system will not accept them. If you do not receive a confirmation of receipt of your comment, contact Michele Easley at the same address or telephone number provided in the FOR FURTHER INFORMATION section.

2. Written comments may be mailed or delivered to the BLM at: Moxa Arch DEIS, Project Manager, Bureau of Land Management Kemmerer Field Office, 312 Highway 189 North, Kemmerer, WY 83101.

The BLM will only accept comments on the Moxa Arch DEIS if they are submitted using one of the methods described above. All comment submittals must include the commenter's name and street address.

Before including your address, phone number, e-mail address, or other personal identifying information in your comment, be advised that your entire comment—including your personal identifying information—may be made publicly available at any time. While you can ask us in your comment to withhold from public review your personal identifying information, we cannot guarantee that we will be able to do so.

Alan Rabinoff,
Acting State Director.

[FR Doc. E7-20114 Filed 10-11-07; 8:45 am]

BILLING CODE 4310-22-P